NATIONAL AERONAUTICS AND SPACE ADMINISTRATION

[Notice: 06-086]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Mr. Walter Kit, National Aeronautics and Space Administration, Washington, DC 20546-0001.

FOR FURTHER INFORMATION CONTACT: Requests for additional information or copies of the information collection instrument(s) and instructions should be directed to Mr. Walter Kit, NASA PRA Officer, NASA Headquarters, 300 E Street SW., JE000, Washington, DC 20546, (202) 358-1350, Walter.Kit-1@nasa.gov.

SUPPLEMENTARY INFORMATION:

I. Abstract

The purpose of these information collections is to gather Web site usability data by a combination of complimentary data collection instruments that will be used by Web and product design teams to enhance NASA Web sites and educational products, making them easier to use and more effective for users to access Agency information with the least amount of time, frustration, and effort.

II. Method of Collection

Usability data will be gathered using various methods and resources, including but not limited to candidate screening, user observation, focus groups, questionnaires, and in-person interviews by means of questionnaires on Web sites, email attachments, faxes, telephone interviews, and direct person-to-person communication.

III. Data

Title: Generic Web Site Usability Information Collections.

OMB Number: 2700-XXXX.

Type of review: Generic Collection.

Affected Public: Individuals or households.

Number of Respondents: 1800.

Responses Per Respondent: 1.

Annual Responses: 600.

Hours Per Response: 1.5 hours.

Annual Burden Hours: 900.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Gary Cox,
Deputy Chief Information Officer (Acting).

[FR Doc. E6-19656 Filed 11-20-06; 8:45 am]

BILLING CODE 7510-13-P